DEPARTMENT OF AGRICULTURE

Rural Utilities Service

Basin Electric Power Cooperative, Inc.; Notice of Intent To Prepare an Environmental Assessment

AGENCY: Rural Utilities Service, USDA.

ACTION: Notice of intent to prepare an environmental assessment.

SUMMARY: The Rural Utilities Service (RUS), an agency delivering the U.S. Department of Agriculture's Rural Development Utilities Programs, intends to prepare an environmental assessment (EA) in connection with possible impacts related to the construction and operation of a new gas-fired combustion turbine generation facility. The project is proposed by Basin Electric Power Cooperative, Inc. (Basin), of Bismarck, North Dakota. RUS may provide financing assistance for the project.

FOR FUTHER INFORMATION CONTACT: Nurul Islam, Environmental Protection Specialist, RUS, Engineering and Environmental Staff, Stop 1571, 1400 Independence Avenue, SW., Washington, DC 20250-1571, telephone: (202) 720-1414 or e-mail: nurul.islam@usda.gov.; or Jim Berg, Basin at (701) 223-0441 or e-mail: jberg@bepc.com.

SUPPLEMENTARY INFORMATION: Basin is proposing to construct an 80 Megawatt simple-cycle gas turbine and is evaluating potential sites located in Brown and Deuel Counties, South Dakota. One site is located approximately 5 miles south of the town of Groton, in Brown County. A second potential site is located approximately 27 miles southeast of Watertown, in Deuel County. Depending on the site selected, associated facilities could include a gas pipeline, water pipeline and electric transmission facilities.

Comments regarding the proposed project may be submitted in writing no later than July 19, 2004, to RUS at the address provided above.

An environmental assessment (EA) will be prepared for the proposed project. Based on a review of the EA and other relevant information, RUS will determine if the preparation of an environmental impact statement is necessary. Should RUS determine that the preparation of an environmental impact statement is not necessary, it will prepare a Finding of No Significant Impact.

Any final action by RUS related to the proposed project will be subject to, and contingent upon, compliance with all relevant Federal, State, and local environmental laws and regulations and completion of the environmental review procedures as prescribed by 7 CFR Part 1794, Environmental Policies and Procedures.

Dated: June 8, 2004.
Glendon Deal,
Director, Engineering and Environmental Staff, Rural Utilities Service.

[FR Doc. 04-13692 Filed 6-16-04; 8:45 am]

BILLING CODE 3410-15-P